DEPARTMENT OF HOMELAND SECURITY

Federal Emergency Management Agency

[Docket ID FEMA-2018-0002; Internal Agency Docket No. FEMA-B-1800]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 24, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1800, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: January 9, 2018.
Roy E. Wright,
Deputy Associate Administrator for Insurance and Mitigation, Department of Homeland Security, Federal Emergency Management Agency.

Community | Community map repository address
Essex County, New Jersey (All Jurisdictions)
Project: 17-02-0794S Preliminary Date: June 30, 2017
Borough of North Caldwell | Borough Hall, 141 Gould Avenue, North Caldwell, NJ 07006.
Borough of Roseland | Public Works Department, 300 Eagle Rock Avenue, Roseland, NJ 07068.
Township of Livingston | Township Hall, Engineering Department, 357 South Livingston Avenue, Livingston, NJ 07039.
Township of West Caldwell | Municipal Building, 30 Clinton Road, West Caldwell, NJ 07006.
Morris County, New Jersey (All Jurisdictions)
Project: 14-02-2566S Preliminary Dates: February 26, 2016 and August 22, 2017
Borough of Butler | Borough Municipal Building, 1 Ace Road, Butler, NJ 07405.
Borough of Chatham | Borough Municipal Building, 54 Fairmount Avenue, Chatham, NJ 07928.
Borough of Florham Park | Borough Hall, 111 Ridgedale Avenue, Florham Park, NJ 07932.
Borough of Kinnelon | Borough Municipal Building, 130 Kinnelon Road, Kinnelon, NJ 07405.
Borough of Lincoln Park | Borough Building Department, 34 Chapel Hill Road, Lincoln Park, NJ 07035.
Borough of Madison | Borough Hall, Hartley Dodge Memorial Building, 50 Kings Road, Madison, NJ 07940.
Borough of Mendham | The Phoenix House, 2 West Main Street, Mendham, NJ 07945.
Borough of Morris Plains | Borough Hall, 531 Speedwell Avenue, Morris Plains, NJ 07950.
Borough of Mount Arlington | Borough Hall, 419 Howard Boulevard, Mount Arlington, NJ 07856.
Borough of Netcong | Borough Municipal Building, 23 Maple Avenue, Netcong, NJ 07857.
Borough of Riverdale | Borough Municipal Building, 91 Newark-Pompton Turnpike, Riverdale, NJ 07457.
Borough of Rockaway | Borough Municipal Building, 1 East Main Street, Rockaway, NJ 07866.
Borough of Victory Gardens | Victory Gardens Borough Municipal Building, 337 South Salem Street, Dover, NJ 07801.
Borough of Wharton | Borough Hall, 10 Robert Street, Wharton, NJ 07885.
Town of Boonton | Town Hall, 100 Washington Street, Boonton, NJ 07005.
Town of Dover | Engineering Department, 100 Princeton Avenue, Dover, NJ 07801.
Town of Morristown | Town Hall, 200 South Street, Morristown, NJ 07960.
Township of Boonton | Township Municipal Building, 155 Powerville Road, Boonton Township, NJ 07005.
Township of Chatham | Township Municipal Building, 58 Meyersville Road, Chatham, NJ 07928.
Township of Chester | Township Building, 1 Parker Road, Chester, NJ 07930.
Township of Denville | Engineering Department, 1 Saint Mary's Place, Denville, NJ 07834.
Township of East Hanover | Township Municipal Building, Construction Department, 411 Ridgedale Avenue, East Hanover, NJ 07936.
Township of Hanover | Hanover Township Municipal Building, 1000 Route 10, Whippany, NJ 07981.
Township of Harding | Harding Township Municipal Building, 21 Blue Mill Road, New Vernon, NJ 07976.
Township of Jefferson | Jefferson Township Municipal Building, 1033 Weldon Road, Lake Hopatcong, NJ 07849.
Township of Long Hill | Long Hill Township Hall, 915 Valley Road, Gillette, NJ 07933.
Township of Mendham | Mendham Township Building, 2 West Main Street, Brookside, NJ 07926.
Township of Mine Hill | Municipal Building, 10 Baker Street, Mine Hill, NJ 07803.
Township of Montville | Township Municipal Building, Engineering Department, 195 Changebridge Road, Montville, NJ 07045.
Township of Morris | Morris Township Municipal Building, 50 Woodland Avenue, Morristown, NJ 07960.
Township of Mount Olive | Mount Olive Township Hall, 204 Flanders-Drakestown Road, Budd Lake, NJ 07828.
Township of Parsippany-Troy Hills | Parsippany-Troy Hills Township Hall, 1001 Parsippany Boulevard, Parsippany, NJ 07054.
Township of Pequannock | Pequannock Township Municipal Building, 530 Newark-Pompton Turnpike, Pompton Plains, NJ 07444.
Township of Randolph | Township Municipal Building, 502 Millbrook Avenue, Randolph, NJ 07869.
Township of Rockaway | Township Municipal Building, 65 Mount Hope Road, Rockaway, NJ 07866.
Township of Roxbury | Township of Roxbury Town Hall, 1715 Route 46, Ledgewood, NJ 07852.
Township of Washington | Washington Township Municipal Building, 43 Schooley's Mountain Road, Long Valley, NJ 07853.
Passaic County, New Jersey (All Jurisdictions)
Project: 17-02-0805S Preliminary Date: August 30, 2017
Borough of Totowa | Municipal Complex, Clerk's Office, 537 Totowa Road at Cherba Place, Totowa, NJ 07512.
Township of Little Falls | Township Hall, 225 Main Street, Little Falls, NJ 07424.
Township of Wayne | Township Hall, Engineering Department, 475 Valley Road, Wayne, NJ 07470.
Erie County, New York (All Jurisdictions)
Project: 17-02-0762S Preliminary Dates: February 19, 2016 and September 29, 2017
Town of Amherst | Amherst Town Hall, 5583 Main Street, Williamsville, NY 14221.

[FR Doc. 2018-01216 Filed 1-23-18; 8:45 am]

BILLING CODE 9110-12-P